DEPARTMENT OF HOMELAND SECURITY

U.S. Citizenship and Immigration Services

Agency Information Collection Activities: (No Agency Form Number), E-Verify Program, Revision of a Currently Approved Information Collection; Comment Request

ACTION: 30-Day Notice of Information Collection Under Review: E-Verify Program.

The Department of Homeland Security, U.S. Citizenship and Immigration Services (USCIS) will be submitting the following information collection request to the Office of Management and Budget (OMB) for review and clearance in accordance with the Paperwork Reduction Act of 1995. The information collection was previously published as an extension in the Federal Register on August 1, 2011, at 76 FR 45843, allowing for a 60-day public comment period. USCIS received comments on the 60-day notice. A discussion of the comments and USCIS' response is discussed in item 8 of the supporting statement that can be viewed at: http://www.regulations.gov.

The purpose of this notice is to allow an additional 30 days for public comments. Comments are encouraged and will be accepted until November 14, 2011. This process is conducted in accordance with 5 CFR 1320.10.

Written comments and/or suggestions regarding the item(s) contained in this notice, especially regarding the estimated public burden and associated response time, should be directed to the Department of Homeland Security (DHS), and to the Office of Management and Budget (OMB) USCIS Desk Officer. Comments may be submitted to: USCIS, Chief, Regulatory Products Division, Office of the Executive Secretariat, 20 Massachusetts Avenue, N.W., Washington, DC 20529-2020. Comments may also be submitted to DHS via facsimile to 202-272-0997 or via e-mail at rfs.regs@dhs.gov, and to the OMB USCIS Desk Officer via facsimile at 202-395-5806 or via e-mail at oira_submission@omb.eop.gov. When submitting comments by e-mail, please make sure to add OMB Control Number 1615-0092 in the subject box.

Note: The address listed in this notice should only be used to submit comments concerning the revision of this information collection. Please do not submit requests for individual case status inquiries to this address. If you are seeking information about the status of your individual case, please check “My Case Status” online at: https://egov.uscis.gov/cris/Dashboard.do, or call the USCIS National Customer Service Center at 1-800-375-5283 (TTY 1-800-767-1833).

Written comments and suggestions from the public and affected agencies should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a currently approved information collection.

(2) Title of the Form/Collection: E-Verify Program.

(3) Agency form number, if any, and the applicable component of the Department of Homeland Security sponsoring the collection: No Agency Form Number; File Number OMB-18. U.S. Citizenship and Immigration Services.

(4) Affected public who will be asked or required to respond, as well as a brief abstract: Primary: Business or other for profit. E-Verify allows employers to electronically verify the employment eligibility status of newly hired employees.

(5) An estimate of the total number of respondents and the amount of time estimated for an average respondent to respond: 125,015 completing the E-Verify web interface at 17 responses at .86 hours (52 minutes) per response; 521,134 employers registering to participate in the program at 2.26 hours (2 hours and 15 minutes) per response; 3,333 requiring ID/IQ modification at 2 hours per response; 4,094,955 initial queries at .12 hours (7 minutes) per response; 195,329 secondary queries at 1.94 hours (1 hour 56 minutes) per response.

(6) An estimate of the total public burden (in hours) associated with the collection: 3,882,482 annual burden hours.

If you have additional comments, suggestions, or need a copy of the proposed information collection instrument with instructions, or additional information, please visit the USCIS Web site at: http://www.regulations.gov/search/index.jsp.

We may also be contacted at: USCIS, Regulatory Products Division, 20 Massachusetts Avenue, NW., Washington, DC 20529-2020, telephone number 202-272-8377.

Dated: October 6, 2011.
Sunday Aigbe,
Chief, Regulatory Products Division, Office of the Executive Secretariat, U.S. Citizenship and Immigration Services, Department of Homeland Security.

[FR Doc. 2011-26361 Filed 10-11-11; 8:45 am]

BILLING CODE 9111-97-P